DEPARTMENT OF HEALTH AND HUMAN SERVICES

Centers for Medicare and Medicaid Services

[Document Identifier: CMS-10094]

Agency Information Collection Activities: Proposed Collection; Comment Request

Agency: Centers for Medicare and Medicaid Services, HHS.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: Evaluation of the Medicaid Health Reform Demonstrations.

Form No.: CMS-10094 (OMB# 0938-NEW).

Use: This survey is part of an evaluation of the State of Vermont's pharmacy assistance programs, which principally serve low income Medicare beneficiaries who do not have other coverage for prescription drugs. The surveys will explore the issues of self-selection into the pharmacy programs, motivations for joining or not joining, the extent of pharmacy coverage among low income Medicare beneficiaries who are not enrolled and the impact of coverage on Medicare spending. The Vermont evaluation is part of a larger evaluation of section 1115 Medicaid demonstration programs in five states. (The other states are California, Kentucky, Minnesota and New York. The survey will take place only in Vermont.)

Frequency: Other: One-time.

Affected Public: Individuals or Households.

Number of Respondents: 11,310.

Total Annual Responses: 11,310.

Total Annual Hours: 1,087.

To obtain copies of the supporting statement and any related forms for the proposed paperwork collections referenced above, access CMS's Web site address at http://cms.hhs.gov/regulations/pra/default.asp, or e-mail your request, including your address, phone number, OMB number, and CMS document identifier, to Paperwork@cms.hhs.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: June 12, 2003.
Dawn Willinghan,
CMS Reports Clearance Officer, Division of Regulations Development and Issuances, Office of Strategic Operations and Strategic Affairs.

[FR Doc. 03-15828 Filed 6-23-03; 8:45 am]

BILLING CODE 4120-03-P